DEPARTMENT OF COMMERCE

National Oceanic and Atmospheric Administration

[RTID 0648-XD499]

Caribbean Fishery Management Council; Public Meeting

AGENCY: National Marine Fisheries Service (NMFS), National Oceanic and Atmospheric Administration (NOAA), Commerce.

ACTION: Notice of a public virtual meeting.

SUMMARY: The Caribbean Fishery Management Council's (Council) Scientific and Statistical Committee (SSC) will hold a public virtual meeting to address the items contained in the tentative agenda included in the SUPPLEMENTARY INFORMATION.

DATES: The SSC public virtual meeting will be held on November 28, 2023, from 9 a.m. to 5 p.m., Atlantic Standard Time.

ADDRESSES: You may join the SSC public virtual meeting (via Zoom) from a computer, tablet, or smartphone by entering the following address: https://us02web.zoom.us/j/81086075177?pwd=TlBLb0NjWmZaR2h0b2NEbmpOTWtiQT09.

Meeting ID: 810 8607 5177

Passcode: 546850

One tap mobile

+17193594580,,81086075177#,,,,*546850# US

+12532050468,,81086075177#,,,,*546850# US

Dial by your location

+1 301 715 8592 US (Washington, DC)

+1 305 224 1968 USs

+1 309 205 3325 US

+1 646 558 8656 (New York)

+1 669 900 9128 US (San Jose)

Meeting ID: 810 8607 5177

Passcode: 546850

Find your local number: https://us02web.zoom.us/u/kQvrOfR9i.

In case of problems with ZOOM, please join the meeting via GoToMeeting by entering the following address: https://meet.goto.com/768055309.

You can also dial in using your phone.

Access Code: 768-055-309

United States: +1 (571) 757-317-3122

Join from a video-conferencing room or system.

Meeting ID: 768-055-309

Dial in or type: 67.217.95.2 or inroomlink.goto.com

Or dial directly: 768055309@67.217.95.2 or 67.217.95.2##768055309

Get the app now and be ready when your first meeting starts: https://meet.goto.com/install.

FOR FURTHER INFORMATION CONTACT: Graciela García-Moliner, Caribbean Fishery Management Council, 270 Muñoz Rivera Avenue, Suite 401, San Juan, Puerto Rico 00918-1903, telephone: (787) 766-5926.

SUPPLEMENTARY INFORMATION: The following items included in the tentative agenda will be discussed:

November 28, 2023

9 a.m.-9:30 a.m.

—Roll Call

—Approval of Agenda

—Approval of Minutes

9:30 a.m.-12:30 p.m.

—SEDAR 80 USVI Queen Triggerfish—Adyan Rios, SEFSC Caribbean Fisheries Branch, and Kyle Shertzer, SEFSC Atlantic Fisheries Branch

—Recommendations to CFMC on SEDAR 80

12:30 p.m.-1:30 p.m.

—Lunch Break

1:30 p.m.-3 p.m.

—Finalize SSC Recommendations to CFMC on SEDAR 80

—SSC Participation for SEADR 84 (yellowtail snapper for Puerto Rico and St. Thomas/St. John and stoplight parrotfish for St. Croix)

3 p.m.-5 p.m.

—Other Business

—Next Meeting

—Adjourn

The order of business may be adjusted as necessary to accommodate the completion of agenda items. The meeting will begin on November 28, 2023, at 9 a.m. AST, and will end on November 28, 2023, at 5 p.m., AST. Other than the start time, interested parties should be aware that discussions may start earlier or later than indicated, at the discretion of the Chair. In addition, the meeting may be completed prior to the date established in this notice.

Special Accommodations

For any additional information on this public virtual meeting, please contact Dr. Graciela García-Moliner, Caribbean Fishery Management Council, 270 Muñoz Rivera Avenue, Suite 401, San Juan, Puerto Rico, 00918-1903, telephone: (787) 403-8337.

Authority: 16 U.S.C. 1801 et seq.

Dated: November 3, 2023.
Rey Israel Marquez,
Acting Deputy Director, Office of Sustainable Fisheries, National Marine Fisheries Service.

[FR Doc. 2023-24687 Filed 11-7-23; 8:45 am]

BILLING CODE 3510-22-P